DEPARTMENT OF ENERGY

Federal Energy Regulatory Commission

[Docket No. EL02-12-000]

Sunbury Generation, LLC, Complainant v. PPL Electric Utilities Corporation, Respondent; Notice of Complaint

October 30, 2001.

Take notice that on October 25, 2001, Sunbury Generation, LLC (Sunbury) tendered for filing an original and fourteen copies of a Complaint against PPL Electric Utilities Corporation (PPL) pursuant to Rule 206 of the Commission's Rules of Practice and Procedure. 18 CFR 385.206. Sunbury requests the Commission to (i) find that PPL's charges for station power violate the jurisdictional agreements between Sunbury and PPL and violate the Federal Power Act; (ii) find that Sunbury self-supplies its station power needs under these agreements; and (iii) require PPL to file with the Commission its PJM Interface Services Agreement with Sunbury and refund the time value of amounts collected under that Agreement prior to the Commission's acceptance date of the filing.

Sunbury has served a copy of this Complaint upon PPL.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before November 14, 2001. Protests will be considered by the Commission in determining the appropriate action to be taken, but will not serve to make protestants parties to the proceeding. Any person wishing to become a party must file a motion to intervene. Answers to the complaint shall also be due on or before November 14, 2001. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-27673 Filed 11-2-01; 8:45 am]

BILLING CODE 6717-01-P